DEPARTMENT OF COMMERCE

Foreign-Trade Zones Board

[Docket 41-2001]

Foreign-Trade Zone 210—Port Huron, MI; Request for Manufacturing Authority, Cross Hüller-North America (Machine Tools)

An application has been submitted to the Foreign-Trade Zones Board (the Board) by the Economic Development Alliance of St. Clair County, grantee of FTZ 210, pursuant to § 400.32(b)(1) of the Board's regulations (15 CFR Part 400), requesting authority on behalf of Cross Hüller-North America (Cross Hüller) (a subsidiary of Thyssen Krupp Industries AG, of Germany), to manufacture metal working machine tools under FTZ procedures within FTZ 210. It was formally filed on October 5, 2001.

Cross Hüller operates a facility (144,000 sq.ft./12 acres/110 employees) within FTZ 210-Site 2 located at 2555 20th Street, Port Huron Industrial Park, in Port Huron, Michigan. The plant is used to produce metal-working equipment and distribute foreign-made equipment, including modular transfer machines, computer-controlled machining centers (drilling, boring, broaching, milling), lathes, and flexible manufacturing systems for the U.S. market and export. The proposed manufacturing activity would involve the use of foreign-sourced components (on average, about 45% of finished equipment value), including: Hydraulic/gear oil, industrial paint and anti-rust coatings, caulking, antifreeze, pneumatic hoses and pipes, ID tags, shipping caps, skid rails and pallets, rulon, seals/rings, gaskets, belts, chain, brake rotors, couplings/fittings, fasteners, keys, rollers, brackets, pins, rings, cables, cylinders, pumps and related parts, electric motors, heat exchangers, filters, monitors, cutting tools (face/end mills, turning, drills, boring bars, deburing) guarding interlocks and keys, taps, fiber optic adapters, parts of machinery, castings, lead weights/tubes/pipes, zinc tubes, copper wire and tubes, elbows/fittings, bushings, spindles, gears and gear boxes, sprockets, pulleys, idler assemblies, inductors, electronic control units, air-conditioners and compressors, fans/blowers, switches, spray guns, coolant pumps, batteries, lamps, fuses, circuit breakers, relays, transformers, lamps, switches, CPU/printed circuit/memory boards, integrated circuits, EPROM, numerical process controllers, automatic data processing equipment, linear amplifiers, conduits, gauges, paint pads/brushes, sensors, frequency inverter/converters, pulse coders, encoder, ball screws, and plasma displays, CRT monitors (duty rates: free—10%).

FTZ procedures would exempt Cross Hüller from Customs duty payments on the foreign components used in production for export to non-NAFTA countries. On shipments for U.S. consumption and to NAFTA markets, the company would be able to elect the finished metal-working equipment duty rates (3.3-4.4%) for the foreign components listed above that have higher individual rates. The application indicates that the savings from FTZ procedures would help improve the facility's international competitiveness.

Public comment on the application is invited from interested parties. Submissions (original and three copies) shall be addressed to the Board's Executive Secretary at the address below. The closing date for their receipt is December 17, 2001. Rebuttal comments in response to material submitted during the foregoing period may be submitted during the subsequent 15-day period December 31, 2001.

A copy of the application will be available for public inspection at the following location: Office of the Executive Secretary, Foreign-Trade Zones Board, Franklin Court Building—Suite 4100W, U.S. Department of Commerce, 1099 14th Street, NW, Washington, DC 20005.

Dated: October 5, 2001.
Dennis Puccinelli,
Executive Secretary.

[FR Doc. 01-25976 Filed 10-15-01; 8:45 am]

BILLING CODE 3510-DS-P